ENVIRONMENTAL PROTECTION AGENCY

[ER-FRL-6655-3]

Environmental Impact Statements; Notice of Availability

Responsible Agency: Office of Federal Activities, General Information (202) 564-7167 or http://www.epa.gov/compliance/nepa. Weekly receipt of Environmental Impact Statements Filed August 23, 2004 Through August 27, 2004 Pursuant to 40 CFR 1506.9.

EIS No. 040406, Draft EIS, NOA, AK, Pribilof Islands Setting for the Annual Subsistence Harvest of Northern Fur Seals, To Determine and Publish the Take Ranges, Pribilof Islands, AK, Comment Period Ends: October 19, 2004, Contact: Kaja Brix (907) 586-7824. This document is available on the Internet at: http://www.fakr.noaa.gov.

EIS No. 040407, Final EIS, NPS, AZ, Petrified Forest National Park General Management Plan Revision, Implementation, Navajo and Apache Counties, AZ, Wait Period Ends: October 4, 2004, Contact: Suzy Stutzman (303) 987-6671.

EIS No. 040408, Final EIS, SFW, WA, Nisqually National Wildlife Refuge (NWR) Comprehensive Conservation Plan, Habitat Restoration, Refuge Boundary Expansion and Related Environmental and Recreational Opportunities, Approval and Implementation, Puget Sound, Nisqually River Delta, Thornton and Pierce Counties, WA, Wait Period Ends: October 4, 2004, Contact: Jean Takekawa (360) 753-9467.

EIS No. 040409, Draft EIS, AFS, UT, Reissuance of 10-Year Term Grazing Permits to Continue Authorize Grazing on Eight Cattle Allotments, Permit Reissuance, Fishlake National Forest, Beaver Mountain Tushar Range, Millard, Piute, Garfield, Beaver and Iron Counties, UT, Comment Period Ends: October 18, 2004, Contact: Dave Grider (435) 865-3731.

EIS No. 040410, Final EIS, NOA, AK, Bering Sea and Aleutian Islands King and Tanner Crab Fisheries and Fishery Management Plan, Implementation, United States Exclusive Economic Zone (EEZ) off Alaska, Wait Period Ends: October 4, 2004, Contact: Gretchen Harrington (907) 586-7228.

EIS No. 040411, Final EIS, BLM, AK, Alpine Satellite Development Plan, Construction and Operation of Five Oil Production Pads, Associated Well, Roads, Airstrips, Pipelines and Powerlines, Authorization and Permits Issuance, Northeast corner of the National Petroleum Reserve—Alaska, Colville River Delta, North Slope Borough, AK, Wait Period Ends: October 4, 2004, Contact: Jim Ducker (907) 271-3130.

This document is available on the Internet at: http://www.ak.blm.gov.

EIS No. 040412, Draft EIS, AFS, FL, Ocala National Forest Access Designation Process, Roads and Trails Systems Development, Implementation, Lake, Marion, and Putnam Counties, FL, Comment Period Ends: November 1, 2004, Contact: Will Ebaugh (850) 523-8557.

This document is available on the Internet at: http://www.southernregion.fs.fed.us/florida.

EIS No. 040413, Draft EIS, AFS, OR, West Maurys Fuels and Vegetation Management Project, Prescribed Fire, Commercial and Noncommercial Thinning, Grapple Piling and Hand Piling, Implementation, Lookout Mountain Range District, Ochoco National Forest, Crook County, OR, Comment Period Ends: October 19, 2004, Contact: Arthur J. Currier (541) 416-6500.

EIS No. 040414, Draft EIS, BPA, WA, Salmon Creek Project, Water Flow Restoration and Streambed Rehabilitation, Providing Passage for Summer Steelhead and Spring Chinook, Funding, Okanogan County, WA, Comment Period Ends: October 19, 2004, Contact: Donald Rose (503) 230-3796.

Amended Notices

EIS No. 040276, Final EIS, FAA, MN, Flying Cloud Airport Expansion, Extension of the Runways 9R/27L and 9L/27R, Long-Term Comprehensive Development in the City of Eden Prairie, Hennepin County, MN, Wait Period Ends: September 16, 2004, Contact: Glen Orcult (612) 713-4354. Revision of FR Notice Published on 08/27/2004: CEQ Comment Period Extended from 09/01/2004 to 09/16/2004.

EIS No. 040385, Final EIS, AFS, WA, Crystal Mountain Master Development Plan, To Provide Winter and Summer Recreational Use, Special-Use-Permit, Mt. Baker-Snoqualmie National Forest, Silver Creek Watershed, Pierce County, WA, Wait Period Ends: September 20, 2004, Contact: Larry Donovan (425) 744-3403. Revision of FR Notice published on 08/20/2004: Change in Contact Person Telephone Number.

EIS No. 040389, Draft Supplement, FHW, WI, MN, MN-36/WI-64 St. Croix River Crossing Project, Construction of a New Crossing between the Cities of Stillwater and Oak Park Heights in Washington County, MN and the Town of St. Joseph in St. Croix County, WI, Updated and Additional Information, Funding, Washington County, MN and St. Croix County, WI, Comment Period Ends: October 6, 2004, Contact: Cheryl Martin (651) 291-6120. Revision of FR Notice Published on 8/20/2004: Correction of CEQ Comment Period from 10-4-2004 to 10-6-2004.

EIS No. 040398, Final Supplement, EPA, MS, FL, AL, Eastern Gulf of Mexico Offshore Oil and Gas Extraction, Updated Information on Issuance of New National Pollutant Discharge Elimination System General Permit and the Ocean Discharge Criteria Evaluation, MS, AL and FL, Wait Period Ends: September 27, 2004, Contact: Lena Scott (404) 562-9607. Revision of FR Notice Published on 08/27/2004: CEQ Wait Period Ending 09/07/2004 Corrected 09/27/2004.

EIS No. 040400, Final EIS, DOE, WA, BP Cherry Point Cogeneration Project, To Build a 720-megawatt Gas-Fired Combined Cycle Cogeneration Facility, Energy Facility Site Evaluation Council (EFSEC), Whatcom County, WA, Wait Period Ends: September 27, 2004, Contact: Thomas E. McKinney (503) 230-4749. Revision of FR Notice Published on 08/27/2004: CEQ Wait Period Ending 09/07/2004 Corrected to 09/27/2004.

EIS No. 040401, Final EIS, EPA, FL, Palm Beach Harbor Ocean Dredged Material Disposal Site and the Port Everglades Harbor Ocean Dredged Material Disposal Site, Designation, FL, Wait Period Ends: September 27, 2004, Contact: Christopher McArthur (404) 562-9391. Revision of FR Notice Published on 8/27/2004: CEQ Wait Period Ending 9/7/2004 Corrected to 9/27/2004.

EIS No. 040403, Final Supplement, NOA, FL, MS, TX, AL, LA, Reef Fish Fishery Management Plan Amendment 22, To Set Red Snapper Sustainable Fisheries Act Targets and Thresholds, Set a Rebuilding Plan, and Establish Bycatch Reporting Methodologies for the Reef Fish Fishery, Gulf of Mexico, Wait Period Ends: September 27, 2004, Contact: Dr. Roy E. Crabtree (727) 570-5305. Revision of FR Notice Published on 8/27/2004: CEQ Wait Period Ending 9/7/2003 Corrected to 9/27/2004.

Dated: August 31, 2004.
Robert W. Hargrove,
Director, NEPA Compliance Division, Office of Federal Activities.

[FR Doc. 04-20145 Filed 9-2-04; 8:45 am]

BILLING CODE 6560-50-P